DEPARTMENT OF THE INTERIOR

Fish and Wildlife Service

[FWS-R8-ES-2025-N033; FXES11130800000-267-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered or threatened species under the Endangered Species Act. We invite the public and local, State, Tribal, and Federal agencies to comment on these applications. Before issuing any of the requested permits, we will take into consideration any information that we receive during the public comment period.

DATES: We must receive your written comments on or before March 16, 2026.

ADDRESSES: Document availability and comment submission: Use one of the following methods to request documents or submit comments. All requests and comments should specify the applicant name(s) and application number(s) (e.g., Smith, ES-012345 or Jones, PER0001234).

• Email: permitsR8ES@fws.gov.

• U.S. Mail: Tiffany Heitz, Regional Recovery Permit Coordinator, U.S. Fish and Wildlife Service, 2800 Cottage Way, Room W-2606, Sacramento, CA 95825.

FOR FURTHER INFORMATION CONTACT: Tiffany Heitz, via phone at 916-978-5569, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed wildlife species unless a Federal permit is issued that allows such activity. The ESA's definition of “take” of wildlife species includes such activities as pursuing, harassing, trapping, capturing, or collecting, in addition to hunting, shooting, harming, wounding, or killing, or attempting to engage in any such contact.

A recovery permit issued by us under section 10(a)(1)(A) of the ESA authorizes the permittee to conduct activities with endangered or threatened species for scientific purposes that promote recovery or for enhancement of propagation or survival of the species. These activities often include such prohibited actions as capture and collection of listed wildlife species and removal and reduction to possession of listed plant species from an area of federal jurisdiction. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the permit requests in Table 1 are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Table 1—Permit Applications Received
Application No. | Applicant; city, state | Species | Location | Take activity | Permit action
PER8717669 | Mello Dee Hrdlicka; Riverside, California | San Bernardino Merriam's kangaroo rat (Dipodomys merriami parvus) | CA | Survey, capture, handle, and release | New.
98536C | Stillwater Sciences; Berkeley, California | Tidewater goby (Eucyclogobius newberryi), Foothill yellow-legged frog (Rana boylii) South Coast and South Sierra distinct population segments (DPS), California tiger salamander (Ambystoma californiense) Santa Barbara County and Sonoma County DPS | CA | Survey, capture, handle, photograph, swab, release, and collect voucher specimens | Renew.
PER18916640 | Christopher Scanlon; Sacramento, California | Foothill yellow-legged frog (Rana boylii) South Coast and South Sierra DPS | CA | Survey, capture, handle, swab, and release | New.
007907 | U.S. Geological Survey; Klamath Falls, Oregon | Shortnose sucker (Chasmistes brevirostris) and Lost River sucker (Deltistes luxatus) | CA, NV, OR | Survey, capture, handle, mark (including the use of fin clips, external tags, internal and external radio telemetry transmitters, PIT tags, and coded wire tags), release, collect specimens, collect gametes, and use enclosures | Renew and Amend.
PER0045140 | Utah State University; Logan, Utah | Cui-ui (Chasmistes cujus) | NV | Survey, capture, handle, mark, sacrifice, tissue sample, and collect | Renew.
108507 | U.S. Fish and Wildlife Service Pacific Southwest Region; Sacramento, California | All endangered species in the Pacific Southwest Region | CA, NV, OR | Purposeful take in the form of all activities that further the U.S. Fish and Wildlife Service's mission to conserve wildlife, plants, and the ecosystems upon which they depend | Renew and Amend.
| Vanessa Danielson; Fair Oaks, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect branchiopod resting eggs | New.
56732D | Jasmine Bakker; Santee, California | Quino checkerspot butterfly (Euphydryas editha quino) | CA | Survey by pursuit | Renew.
PER20359209 | Mimi Dietderich; Concord, California | California tiger salamander (Ambystoma californiense) Santa Barbara County and Sonoma County DPS | CA | Survey, capture, handle, swab, mark, relocate, and release | New.
PER22004298 | Cherie Yang; Bakersfield, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | New.
148554 | Amber Heredia; Santa Ana, California | Southwestern willow flycatcher (Empidonax traillii extimus) | AZ, CA, NV | Survey using recorded vocalization | Renew.
30659A | Creekside Center for Earth Observation; Menlo Park, California | Mission blue butterfly (Icaricia icarioides missionensis) | CA | Survey by pursuit, collect, and translocate | Renew.
89994B | Daria Snider; Sacramento, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
68514D | Adam DeLuna; Santa Ana, California | Southwestern willow flycatcher (Empidonax traillii extimus) | CA, NV | Survey using recorded vocalization | Renew.
60680D | California Army National Guard; North Highlands, California | Santa Cruz tarplant (Holocarpha macradenia) | CA | Remove and reduce to possession | Renew.
50899B | Nicholas Bonzey; Sacramento, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
PER20703037 | Jeffrey Wells; Fallbrook, California | Southwestern willow flycatcher (Empidonax traillii extimus), Least Bell's vireo (Vireo bellii pusillus), and Arroyo toad (Anaxyrus canorus) | CA | Survey using recorded vocalization, capture, handle, swab, and release | New.
PER0011950 | Olberding Environmental; Folsom, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), and California tiger salamander (Ambystoma californiense) Santa Barbara County and Sonoma County DPS | CA | Survey, capture, handle, swab, release, collect adult vouchers, and collect resting eggs | Amend.
66265D | Donna Noce; Bakersfield, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), Giant kangaroo rat (Dipodomys ingens), Tipton kangaroo rat (Dipodomys nitratoides nitratoides), Fresno kangaroo rat (Dipodomys nitratoides exilis), Morro Bay kangaroo rat (Dipodomys heermanni morroensis), Foothill yellow-legged frog (Rana boylii) South Coast and South Sierra DPS, and California tiger salamander (Ambystoma californiense) Santa Barbara County and Sonoma County DPS | CA | Survey, capture, handle, release, and collect adult vouchers | Renew.
58452B | Darren Ward; Arcata, California | Tidewater goby (Eucyclogobius newberryi) | CA | Survey, capture, handle, and release | Renew.
191704 | Dana Terry; Pleasant Hill, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), California tiger salamander (Ambystoma californiense) Santa Barbara County and Sonoma County DPS, and Foothill yellow-legged frog (Rana boylii) South Coast DPS | CA | Survey, capture, handle, swab, release, collect adult vouchers, and collect resting eggs | Renew and Amend.
73946B | Austin Parker; Long Beach, California | El Segundo blue butterfly (Euphilotes battoides allyni) and Palos Verdes blue butterfly (Glaucopsyche lygdamus palosverdensis) | CA | Survey by pursuit | Renew.
PER20968708 | Heather Curran; Los Osos, California | Tidewater goby (Eucyclogobius newberryi) | CA | Survey, capture, handle, and release | New.
77128D | Victoria Prado; Santa Barbara, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, and collect adult vouchers | Renew.
PER22053515 | Rivers and Lands Conservancy; Riverside, California | Delhi Sands flower-loving fly (Rhaphiomidas terminates abdominalis) | CA | Survey by pursuit | New.
787716 | Scott Tremor; San Diego, California | San Bernardino Merriam's kangaroo rat (Dipodomys merriami parvus), Pacific pocket mouse (Perognathus longimembris pacficus), and Sierra Nevada red fox (Vuples vulpes necator) | CA | Survey, baited motion camera survey, track tube survey, capture, handle, collect tissue samples for genetic material, and release | Renew and Amend.
67250D | Margaret Rei Scampavia; Richmond, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, and collect adult vouchers | Renew.
PER21208242 | Leslie Munoz; Santa Cruz, California | California tiger salamander (Ambystoma californiense) Santa Barbara County and Sonoma County DPS and Santa Cruz long-toed salamander (Ambystoma macrodactylum croceum) | CA | Survey, capture, handle, swab, and release | New.
PER21200525 | Jessica Appel; Pleasant Hill, California | Mission blue butterfly (Icaricia icarioides missionensis) | CA | Survey, capture, handle, collect genetic material, sacrifice, and conduct genetic work | New.
813545 | Brock Ortega; Poway, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), Quino checkerspot butterfly (Euphydryas editha quino), and Southwestern willow flycatcher (Empidonax traillii extimus) | CA | Survey, survey using recorded vocalizations, survey by pursuit, capture, handle, release, collect adult vouchers, and collect resting eggs | Renew.
092162 | Andrew Borcher; Santee, California | Quino checkerspot butterfly (Euphydryas editha quino) | CA | Survey by pursuit | Renew.
031850 | Gretchen Cummings; Ramona, California | Quino checkerspot butterfly (Euphydryas editha quino) | CA | Survey by pursuit | Renew.
92770B | Conservation Society of California; Oakland, California | Foothill yellow-legged frog (Rana boylii), South Coast and South Sierra DPS | CA | Harass by transport, captive rear, provide veterinary treatment and husbandry including brumation, swab, collect tissue samples for genetic analysis, inert PIT tags, inject Visual Implant Elastomer, provide disease treatment and immunization, perform behavioral and disease experiments, indefinitely retain and display to the public individuals unfit for reintroduction into the wild, release, euthanize, and nrecropsy | Amend.
PER21205976 | Rachel Noriega; El Centro, California | Yuma Ridgway's rail (Rallus obsoletus yumanensis) | CA, AZ | Survey using recorded vocalizations | New.
68734D | Kyla Garten; Sacramento, California | Conservancy fairy shrimp (Branchinecta conservatio), Longhorn fairy shrimp (Branchinecta longiantenna), and Vernal pool tadpole shrimp (Lepidurus packardi) | CA | Survey, capture, handle, release, collect adult vouchers, and collect resting eggs | Renew.
066621 | U.S. Navy Ventura County Naval Base; Point Mugu, California | Light-footed Ridgway's rail (Rallus obsoletus levipes), California least tern (Sterna antillarum browni), least Bell's vireo (Vireo bellii pusillus), and Salt marsh bird's beak (Cordylanthus maritimus ssp. maritimus) | CA | Survey using recorded vocalizations, locate and monitor nests and chicks, install/use remote sensing cameras near nests, use driftwood logs to protect nests, capture, band, release, and remove and reduce to possession | Renew.
PER22230993 | Susan Williams; Ridgecrest, California | Mohave tui chub (Gila bicolor ssp. mohavensis) | CA | Survey, capture, handle, collect tissue samples for genetic study, release, and restore habitat | New.
051236 | Erika Eidson; La Mesa, California | Quino checkerspot butterfly (Euphydryas editha quino) and Southwestern willow flycatcher (Empidonax traillii extimus) | CA | Survey by pursuit and survey using recorded vocalizations | Renew.
56760D | Jason Allen; Bonita, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
844645 | Richard U Kann; Sunland, California | Quino checkerspot butterfly (Euphydryas editha quino), Delhi Sands flower-loving fly (Rhaphiomidas terminates abdominalis), and Palos Verdes blue butterfly (Glaucopsyche lygdamus palosverdensis) | CA | Survey by pursuit | Renew and Amend.
PER22304748 | Rachel Allingham; El Cajon, California | Quino checkerspot butterfly (Euphydryas editha quino) | CA | Survey by pursuit | New.
PER22305725 | Julie De Barros; Petaluma, California | Foothill yellow-legged frog (Rana boylii) South Coast and South Sierra DPS | CA | Survey, capture, handle, swab, and release | New.
002243 | Bighorn Institute; Palm Desert, California | Peninsular bighorn sheep (Ovis canadensis nelsoni) | CA | Survey, capture, handle, collect biological samples, radio-collar, euthanize critically ill or injured wild or captive-reared individuals unable to recover, captive rear (not breed) adults in existing captive herd, remove sick or injured lambs from the wild for rehabilitation and captive rearing and release | Renew.
045994 | U.S. Geological Survey Western Ecological Research Center; San Diego, California | Pacific pocket mouse (Perognathus longimembris pacficus), Desert slender salamander (Batrachoseps aridus), Unarmored threespine stickleback (Gasterosteus aculeatus williamsoni), Mountain yellow-legged frog (Rana muscosa) southern California DPS, Arroyo toad (Anaxyrus canorus), blunt-nosed leopard lizard (Gambelia silus), and Tidewater goby (Eucyclogobius newberryi) | CA | Survey, conduct work with ants in surrounding habitat, capture, handle, voucher new populations, collect hair and tissue samples, mark with visible implant elastomer tags, utilize tracking tubes, photograph and record, collect specimens for vouchers and genetic and morphological assessments, swab, and release | Renew and Amend.
55068D | Allie Sennett; Sacramento, California | California tiger salamander (Ambystoma californiense) Sonoma County distinct population segment and Foothill yellow-legged frog (Rana boylii) South Coast and South Sierra DPS | CA | Survey, capture, handle, swab, and release | Renew and Amend.
PER2424938 | Westland Resources, Inc.; Tucson, Arizona | Tiehm's buckwheat (Eriogonum tiehmii) | NV | Remove and reduce to possession | Renew and Amend.
007907 | U.S. Geological Survey Western Fisheries Research Center; Klamath Falls, Oregon | Shortnose sucker (Chasmistes brevirostris) and Lost River sucker (Deltistes luxatus) | OR | Capture, handle, mark (including the use of fin clips, external tags, internal and external radio telemetry or acoustic transmitters, PIT tags, and coded wire tags), release, collect specimens, collect, gamete, and use enclosures | Renew and Amend.
PER11171364 | Caroline Hamilton; Nevada City, California | Foothill yellow-legged frog (Rana boylii) South Coast and South Sierra DPS | CA | Survey, capture, handle, swab, insert PIT tags, transport, translocate, emergency salvage, and release | New.
20280D | Stephanie Cashin; Anaheim, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
64455D | Marshall Paymard; Foothill Ranch, California | Quino checkerspot butterfly (Euphydryas editha quino) | CA | Survey by pursuit | Renew and Amend.
62868B | The Klamath Tribes; Chiloquin, Oregon | Shortnose sucker (Chasmistes brevirostris) and Lost River sucker (Deltistes luxatus) | OR | Survey, trap, capture, handle, mark, collect tissue samples, collect and rear in captivity, collect gametes and relocate/reintroduce, sacrifice, and release | Renew and Amend.
28366D | Taylor Dee; Redlands, California | Yuma Ridgway's rail (Rallus obsoletus yumanensis) | AZ, CA, NV | Survey using recorded vocalization | Renew and Amend.
PER20609148 | Alexander Bajakian; Travis Air Force Base, California | Vernal pool tadpole shrimp (Lepidurus packardi), California tiger salamander (Ambystoma californiense) Santa Barbara County and Sonoma County DPS, and Contra Costa goldfields (Lasthenia conjugens) | CA | Survey, capture, handle, release, collect adult vouchers, collect resting eggs, and remove and reduce to possession | Amend.
800777 | Jepson Prairie Preserve Docent Program; Davis, California | Vernal pool tadpole shrimp (Lepidurus packardi) | CA | Survey, capture, handle, release, and collect adult vouchers | Amend.
PER9605389 | Rylie Towne; Stockton, California | Foothill yellow-legged frog (Rana boylii), South Coast and South Sierra DPS | CA | Survey, capture, handle, swab, and release | Amend.
063230 | Jim Rocks; San Diego, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), and Quino checkerspot butterfly (Euphydryas editha quino) | CA | Survey, survey by pursuit, capture, handle, release, collect adult vouchers, and collect resting eggs | Renew.
55135D | Adam Lockyer; Fallbrook, California | Southwestern willow flycatcher (Empidonax traillii extimus) | CA, NV, AZ | Survey using recorded vocalization | Renew.
PER22876537 | David Tange; Petaluma, California | California tiger salamander (Ambystoma californiense) Santa Barbara County and Sonoma County DPS | CA | Survey, capture, handle, swab, and release | New.
PER10171021 | Miguel Moutsos; Oceanside, California | Least Bell's vireo (Vireo bellii pusillus) | CA | Survey using recorded vocalization and locate and monitor nests | New.
PER0011963 | Ian Hirschler; San Diego, California | Quino checkerspot butterfly (Euphydryas editha quino), Delhi Sands flower-loving fly (Rhaphiomidas terminates abdominalis), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey, capture, handle, release, collect adult vouchers, and collect resting eggs | Renew.
PER23104032 | The Xerces Society for Invertebrate Conservation; Portland, Oregon | Behren's silverspot butterfly (Speyeria zeren behrensii) | CA | Survey, capture, handle, and release | New.
48170A | Lisa Herrera; Santa Maria, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), and California tiger salamander (Ambystoma californiense) Santa Barbara County and Sonoma County distinct population segments (DPS) | CA | Survey, capture, handle, swab, release, and collect adult vouchers | Renew.
32290D | Michael Scaffadi; Davis, California | California tiger salamander (Ambystoma californiense) Santa Barbara County and Sonoma County DPS | CA | Survey, capture, handle, swab, and release | Amend.
141359 | Stephen Stringer; El Dorado Hills, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
50510A | Geoffrey Cline; Truckee, California | Foothill yellow-legged frog (Rana boylii) South Coast and South Sierra DPS, Giant kangaroo rat (Dipodomys ingens), Tipton kangaroo rat (Dipodomys nitratoides nitratoides), Fresno kangaroo rat (Dipodomys nitratoides exilis), and California tiger salamander (Ambystoma californiense) Santa Barbara County and Sonoma County DPS | CA | Survey, capture, handle, swab, mark, collect tissue samples, and release | Renew and Amend.
PER23105280 | Leonel Hausman; Dixon, California | Foothill yellow-legged frog (Rana boylii) South Coast and South Sierra DPS | CA | Survey, capture, handle, swab, and release | New.
PER2385623 | Alex Berryman; Ogden, Utah | Foothill yellow-legged frog (Rana boylii) South Coast and South Sierra DPS | CA | Survey, capture, handle, swab, and release | Amend.
77146D | Westervelt Ecological Services, LLC.; Sacramento, California | Conservancy fairy shrimp (Branchinecta conservatio), Longhorn fairy shrimp (Branchinecta longiantenna), Vernal pool tadpole shrimp (Lepidurus packardi), Riverside fairy shrimp (Streptocephalus woottoni), San Diego fairy shrimp (Branchinecta sandiegonensis), California tiger salamander (Ambystoma californiense) Santa Barbara County and Sonoma County DPS, and Foothill yellow-legged frog (Rana boylii) South Coast and South Sierra DPS | CA | Survey, capture, handle, swab, release, collect adult vouchers, collect resting eggs, process soil samples for resting egg identification, and culturing and hatching resting eggs | Renew and Amend.
77123D | Pim Laulikitnont-Lee; San Francisco, California | California tiger salamander (Ambystoma californiense) Santa Barbara County and Sonoma County DPS, and California Ridgway's rail (Rallus obsoletus obsoletus) | CA | Survey using recorded vocalizations, survey, capture, handle, swab, and release | Renew and Amend.
119861 | Quad Knopf, Inc.; Clovis, California | California tiger salamander (Ambystoma californiense) Santa Barbara County and Sonoma County DPS, Fresno kangaroo rat (Dipodomys nitratoides exilis), Giant kangaroo rat (Dipodomys ingens), Tipton kangaroo rat (Dipodomys nitratoides nitratoides), and Buena Vista Lake shrew (Sorex ornatus relictus) | CA | Survey, capture, handle, swab, mark, and release | Renew.
82155B | Johanna Page; Pasadena, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.
64144A | Emily Mastrelli; Alpine, California | California least tern (Sterna antillarum browni), Quino checkerspot butterfly (Euphydryas editha quino), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey, capture, handle, band, release, locate and monitor nests, collect or bury non-viable eggs, collect adult vouchers, and collect resting eggs | Renew and Amend.
837760 | Kendall Osborne; Riverside, California | Quino checkerspot butterfly (Euphydryas editha quino), El Segundo blue butterfly (Euphilotes battoides allyni), Palos Verdes blue butterfly (Glaucopsyche lygdamus palosverdesensis), Delhi Sands flower-loving fly (Rhaphiomidas terminates abdominalis), Laguna Mountains skipper (Pyrgus ruralis lagunae), and Casey's June Beetle (Dinacoma caseyi) | CA | Survey by pursuit, capture, handle, release | Renew.
005535 | Gilbert Goodlett; Ridgecrest, California | Quino checkerspot butterfly (Euphydryas editha quino) and Delhi Sands flower-loving fly (Rhaphiomidas terminates abdominalis) | CA | Survey by pursuit | Renew.
069534 | Victor Novik; San Diego, California | Quino checkerspot butterfly (Euphydryas editha quino), Riverside fairy shrimp (Streptocephalus woottoni), and San Diego fairy shrimp (Branchinecta sandiegonensis) | CA | Survey by pursuit, survey, capture, handle, release, collect adult vouchers, and collect resting eggs | Renew.
PER0004080 | U.S. Geological Survey Western Ecological Research Center, San Diego, California | Southwestern willow flycatcher (Empidonax traillii extimus) and Least Bell's vireo (Vireo bellii pusillus) | AZ, CA, NM | Survey, capture, handle, band, take bio-samples, release, conduct training workshops, and remove brown-headed cowbird eggs and chicks from parasitized nests | Renew.
80703A | Seth Reimers; San Diego, California | Quino checkerspot butterfly (Euphydryas editha quino) | CA | Survey by pursuit | Renew.
58862A | Greg Mason; San Diego, California | Quino checkerspot butterfly (Euphydryas editha quino), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey, capture, handle, release, collect adult vouchers, collect resting eggs, process soil samples for resting egg identification, and culturing and hatching resting eggs | Renew.
95114C | Todd Easley; San Marcos, California | Southwestern willow flycatcher (Empidonax traillii extimus) | CA | Survey using recorded vocalizations | Renew.
778195 | HELIX Environmental Planning, Inc.; La Mesa, California | Quino checkerspot butterfly (Euphydryas editha quino), California tiger salamander (Ambystoma californiense) Santa Barbara County and Sonoma County DPS, Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey, capture, handle, swab, release, collect adult vouchers, collect resting eggs, and process soil samples for resting egg identification | Renew.
170389 | Travis Cooper; San Diego, California | Southwestern willow flycatcher (Empidonax traillii extimus), Quino checkerspot butterfly (Euphydryas editha quino), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey using recorded vocalizations, survey by pursuit, survey, capture, handle, release, collect adult vouchers, and collect resting eggs | Renew.
58760A | Jason Yakich; Forest Knolls, California | California Ridgway's rail (Rallus obsoletus obsoletus), California tiger salamander (Ambystoma californiense) Santa Barbara County and Sonoma County DPS, Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey using recorded vocalizations, survey, capture, swab, handle, release, collect adult vouchers, and collect resting eggs | Renew.
PER246532 | Victoria Brunal-Byrd | California tiger salamander (Ambystoma californiense) Santa Barbara County and Sonoma County DPS, and California red-legged frog (Rana draytonii) | CA | Survey, capture, handle, swab, release | New.
76006B | Zoological Society of San Diego; San Diego, California | Mountain yellow-legged frog (Rana muscosa) Southern California DPS | CA | Collect samples for genetic material, conduct captive research, and translocate | Amend.
89991B | Sarah VonderOhe; Citrus Heights, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, collect resting eggs, and process soil samples for resting egg identification | Renew and Amend.
63359B | Jennifer Radtkey; Oakland, California | Quino checkerspot butterfly (Euphydryas editha quino), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey, capture, handle, release, collect adult vouchers, and collect resting eggs | Renew.
PER0002114 | Scott K Whitman; Sacramento, California | Foothill yellow-legged frog (Rana boylii) South Sierra DPS, Conservancy fairy shrimp (Branchinecta conservatio), Longhorn fairy shrimp (Branchinecta longiantenna), and Vernal pool tadpole shrimp (Lepidurus packardi) | CA | Survey, capture, handle, swab, release, and collect adult vouchers | Renew and Amend.
92462A | Ryan Quilley; San Diego, California | Quino checkerspot butterfly (Euphydryas editha quino), Yuma Ridgway's rail (Rallus obsoletus yumanensis), and Light-footed Ridgway's rail (Rallus obsoletus levipes) | CA | Survey by pursuit and survey using recorded vocalizations | Renew.
06873C | Environmental Science Associates; San Diego, California | Quino checkerspot butterfly (Euphydryas editha quino), Light-footed Ridgway's rail (Rallus obsoletus levipes), Southwestern willow flycatcher (Empidonax traillii extimus), Least Bell's vireo (Vireo bellii pusillus), San Bernardino Merriam's kangaroo rat (Dipodomys merriami parvus), Pacific pocket mouse (Perognathus longimembris pacficus), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey using recorded vocalizations, locate and monitor nests, remove brown-headed cowbird eggs (Molothrus ater) and chicks from parasitized nests, capture, handle, release, collect adult vouchers, and collect resting eggs | Renew and Amend.
13632B | Elena Gregg; Chico, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, conduct educational tours, capture, handle, release, collect adult vouchers, collect resting eggs, and process soil samples for resting egg identification | Renew and Amend.
797665 | Recon Environmental, Inc.; San Diego, California | Quino checkerspot butterfly (Euphydryas editha quino), Southwestern willow flycatcher (Empidonax traillii extimus), Least Bell's vireo (Vireo bellii pusillus), San Bernardino Merriam's kangaroo rat (Dipodomys merriami parvus), Pacific pocket mouse (Perognathus longimembris pacficus), Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey by pursuit, survey using recorded vocalizations, survey, locate and monitor nests, remove brown-headed cowbird eggs (Molothrus ater) and chicks from parasitized nests, capture, handle, release, collect adult vouchers, and collect resting eggs | Renew and Amend.
221287 | Diana Saucedo; San Diego, California | Quino checkerspot butterfly (Euphydryas editha quino), Riverside fairy shrimp (Streptocephalus woottoni), and San Diego fairy shrimp (Branchinecta sandiegonensis) | CA | Survey by pursuit, survey, capture, handle, release, collect adult vouchers, and collect resting eggs | Renew.
139634 | Thomas Liddicoat; Vista, California | Conservancy fairy shrimp (Branchinecta conservatio), Longhorn fairy shrimp (Branchinecta longiantenna), Vernal pool tadpole shrimp (Lepidurus packardi), Riverside fairy shrimp (Streptocephalus woottoni), and San Diego fairy shrimp (Branchinecta sandiegonensis) | CA | Survey, capture, handle, release, collect adult vouchers, and collect resting eggs | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials, will be made available for public disclosure in their entirety.

Next Steps

After the comment period closes, we will make decisions regarding permit issuance. If we decide to issue permits to any of the applicants listed in this notice, we will publish a notice in the Federal Register. You may locate the notice announcing the permit issuance by searching https://www.regulations.gov by the application number listed above is this document. Type in your search exactly as the application number appears above, with spaces and hyphens as necessary. For example, to find information about the potential issuance of Permit No. PER1234567-0, you would go to https://www.regulations.gov and type “PER1234567-0” in the Search field.

An interested party opposed to a recovery permit's issuance may object by following the requirements in 50 CFR17.22(d) and request notification of the final action. The Service will follow the procedures in that section regarding notification of interested parties who file objections to issuance of permits.

Authority

We publish this notice under section 10(c) of the Endangered Species Act of 1973, as amended (16 U.S.C. 1531 et seq.).

Angela Picco,
Regional Threatened and Endangered Lead, Ecological Services, Pacific Southwest Region, Sacramento, California.

[FR Doc. 2026-02824 Filed 2-11-26; 8:45 am]

BILLING CODE 4333-15-P